DEPARTMENT OF TRANSPORTATION

Federal Motor Carrier Safety Administration

[Docket No. FMCSA-2021-0107]

Agency Information Collection Activities; Approval of a New Information Collection Request; Waiver and Exemption Requirements

AGENCY: Federal Motor Carrier Safety Administration (FMCSA), DOT.

ACTION: Notice and request for comments.

SUMMARY: In accordance with the Paperwork Reduction Act of 1995, the Federal Motor Carrier Safety Administration (FMCSA) announces its plan to submit the Information Collection Request (ICR) described below to the Office of Management and Budget (OMB) for its review and approval and invites public comment. This notice invites comment on a new information collection titled “Waiver and Exemption Requirements.” The ICR estimates the burden applicants incur to comply with the reporting tasks required for requesting waivers and exemptions. FMCSA has not previously accounted for these burdens.

DATES: Comments on this notice must be received on or before January 18, 2022.

ADDRESSES: Written comments and recommendations for the proposed information collection should be sent within 30 days of publication of this notice to www.reginfo.gov/public/do/PRAMain. Find this information collection by selecting “Currently under 30-day Review—Open for Public Comments” or by using the search function.

FOR FURTHER INFORMATION CONTACT: Pearlie Robinson, Driver and Carrier Operations Division, DOT, FMCSA, West Building 6th Floor, 1200 New Jersey Avenue SE, Washington, DC 20590. Telephone: 202-366-4225. Email: MCPSD@dot.gov.

SUPPLEMENTARY INFORMATION: Title: Waiver and Exemption Requirements.

OMB Control No.: To be determined by OMB upon OMB approval of the ICR.

Type of Request: New information collection.

Respondents: States, State Drivers Licensing Authorities, individuals, and motor carriers.

Estimated Number of Respondents: 131 per year.

Estimated Time per Response: 2 minutes to 2 hours.

Expiration Date: This is a new information collection request.

Frequency of Response: On occasion.

Estimated Total Annual Burden: 97 burden hours.

Background: In 1998, the Federal Highway Administration (FHWA), the predecessor agency of FMCSA, adopted 49 CFR part 381 as an interim final rule (IFR), establishing procedures for applying for waivers, exemptions, and pilot programs (63 FR 67600, December 8, 1998). Section 4007 of the Transportation Equity Act for the 21st Century (TEA-21) amended 49 U.S.C. 31315 and 31136(e) to provide authority to the Secretary of Transportation to grant waivers and exemptions from motor carrier safety regulations. Section 4007 of TEA-21 requires that the terms and conditions for all waivers and exemptions likely achieve a level of safety equivalent to or greater than what would be achieved by complying with the safety regulations. In 2004, FMCSA adopted its IFR as final at 49 CFR part 381, consistent with section 4007 of TEA-21 (69 FR 51589, August 20, 2004). The final rule also established procedures that govern how FMCSA reviews, grants, or denies requests for waivers and applications for exemptions. The final rule included requirements for publishing notice of exemption applications in the Federal Register to afford the public an opportunity for comment. There is no statutory requirement to publish Federal Register notices concerning waiver applications.

When the waiver and exemption provisions were first adopted, FHWA stated that it would “consider the information collection requirements for each waiver, exemption, and pilot program and, if necessary, request approval from the Office of Management and Budget for any special recordkeeping requirements associated with the waiver, exemption, or pilot program.” (63 FR 67608). FMCSA included a similar statement when finalizing its IFR in 2004 (69 FR 51597). Recently, FMCSA determined that it now receives a sufficient number of waiver and exemption requests per year to require OMB approval.

A 60-day notice for public comment was published on August 16, 2021 (86 FR 45803). The comment period for that notice closed on October 15, 2021. There were no comments submitted to the docket.

Public Comments Invited: You are asked to comment on any aspect of this information collection, including: (1) Whether the proposed collection is necessary for the performance of FMCSA's functions; (2) the accuracy of the estimated burden; (3) ways for the FMCSA to enhance the quality, usefulness, and clarity of the collected information; and (4) ways that the burden could be minimized without reducing the quality of the collected information.

Issued under the authority of 9 CFR 1.87.
Thomas P. Keane,
Associate Administrator, Office of Research and Registration.

[FR Doc. 2021-27307 Filed 12-16-21; 8:45 am]

BILLING CODE 4910-EX-P